DEPARTMENT OF THE INTERIOR

National Park Service

[NPS-NCR-NACA-15371; PX.P0136318C.00.1]

Final Anacostia Park Wetlands and Resident Canada Goose Management Plan/Environmental Impact Statement

AGENCY: National Park Service, U.S. Department of the Interior.

ACTION: Notice of Availability.

SUMMARY: The National Park Service (NPS) announces the availability of a Final Environmental Impact Statement (FEIS) for the Anacostia Park Wetlands and Resident Canada Goose Management Plan, Anacostia Park, Washington, DC The plan provides integrated tools to protect and manage previously restored wetlands in the park, as well as other park resources, including management of the resident Canada goose population.

DATES: The NPS will execute a Record of Decision (ROD) no sooner than 30 days from the date of publication of the Notice of Availability of the FEIS and Plan by the Environmental Protection Agency.

ADDRESSES: The FEIS and Plan is available in electronic format online at http://parkplanning.nps.gov/anac. This Web site also provides information where public review copies of the FEIS and Plan are available for viewing. A limited number of compact discs and hard copies of the FEIS and Plan are available at National Capital Parks-East, 1900 Anacostia Drive SE., Washington, DC 20020. You may also request a CD or hard copy by contacting Gopaul Noojibail, Acting Superintendent of National Capital Parks-East, 1900 Anacostia Drive SE., Washington, DC 20020, or by telephone at (202) 690-5127.

FOR FURTHER INFORMATION CONTACT: Gopaul Noojibail, Acting Superintendent of National Capital Parks-East, 1900 Anacostia Drive SE., Washington, DC 20020, or by telephone at (202) 690-5127.

SUPPLEMENTARY INFORMATION: The FEIS and Plan responds to, and incorporates as appropriate, agency and public comments received on the Draft Environmental Impact Statement (DEIS) and Plan which was available for public review from July 21, 2011, to September 26, 2011. A public meeting, including hearing, was held on September 7, 2011, to gather input on the DEIS and Plan. Thirteen pieces of correspondence were received during the public review period. Agency and public comments and NPS responses are provided in Appendix F of the FEIS and Plan.

The FEIS and Plan evaluates five alternatives for managing wetlands and resident Canada geese in the park. The document describes and analyzes the environmental impacts of the no-action alternative and four action alternatives. When approved, the Plan will guide wetland and resident Canada goose management actions in Anacostia Park (including Kenilworth Park & Aquatic Gardens) over the next 15 years.

The alternatives included in this plan and FEIS are presented as a two-tiered approach, which includes techniques for wetland vegetation management and also for goose management. Wetland vegetation management includes the following elements: hydrology, vegetation, cultural/education, wetland restoration, and park operations.

Alternative B has been identified as the NPS preferred alternative. This alternative combines high wetland management and high goose management techniques, including lethal control. This alternative would provide the park with the maximum number of techniques to implement at most locations to best protect park resources.

This alternative includes the following wetland management techniques: Using adaptive management to monitor and manage vegetation for impacts due to excessive goose herbivory; working with the Washington, DC harbormaster to enforce no wake zones, which would minimize shoreline erosion; managing invasive species; a high density planting effort with persistent, native species at variable growth heights; removing the sheet piling along the Anacostia River Fringe Wetlands; increasing education and interpretation; improving trash management; reducing impervious areas; and creating new rain gardens for improving stormwater management. The NPS would also commit to using adaptive management to monitor and manage the resident Canada goose population. Management actions are: lethal control (round-up, capture, euthanasia, and shooting) until the resident Canada goose population goal of 54 is met planting new buffers along the shorelines throughout the park; increasing the width of existing vegetation buffers; and reproductive control (egg addling). Additional wetland and resident Canada goose techniques available to the park are described in detail in the FEIS and plan, and would be implemented on as needed basis to achieve wetland and goose desired conditions. Many of these additional techniques would be subject to further planning and compliance.

Alternative B would fully meet the plan objectives and has more certainty of success than the other alternatives analyzed. The potential for implementing the maximum wetland and resident Canada goose management techniques would ensure that benefits to natural resources of the park are realized and sustained over the life of the plan.

Dated: May 2, 2014.
Stephen E. Whitesell,
Regional Director, National Park Service, National Capital Region.

[FR Doc. 2014-28437 Filed 12-2-14; 8:45 am]

BILLING CODE 4312-JK-P